FEDERAL MARITIME COMMISSION

Notice of Meeting

Agency Holding the Meeting: Federal Maritime Commission.

Time and Date: February 20, 2008.

Place: 800 North Capitol Street, NW., First Floor Hearing Room, Washington, DC.

Status: Closed.

Matters to be Considered: 1. Personnel Matters and Internal Administrative Practices.

Contact Person for More Information: Karen V. Gregory, Assistant Secretary, (202) 523-5725.

Karen V. Gregory,
Assistant Secretary.

[FR Doc. 08-745 Filed 2-15-08; 8:45 am]

BILLING CODE 6730-01-M